DEPARTMENT OF LABOR

Employment and Training Administration

[TA-W-55,975]

Global Metalform LLC Scranton, PA; Notice of Termination of Investigation

Pursuant to section 221 of the Trade Act of 1974, as amended, an investigation was initiated on November 10, 2004 in response to a worker petition filed by a company official on behalf of workers at Global MetalForm LLC, Scranton, Pennsylvania.

The petitioner has requested that the petition be withdrawn. Consequently, the investigation has been terminated.

Signed at Washington, DC, this 1st day of March, 2005.
Elliott S. Kushner,
Certifying Officer, Division of Trade Adjustment Assistance.

[FR Doc. E5-1241 Filed 3-21-05; 8:45 am]

BILLING CODE 4510-30-P